DEPARTMENT OF COMMERCE

National Oceanic and Atmospheric Administration

50 CFR Part 660

[Docket No. 180625576-8999-03]

RIN 0648-BH93

Magnuson-Stevens Act Provisions; Fisheries Off West Coast States; Pacific Coast Groundfish Fishery; 2019-2020 Biennial Specifications and Management Measures; Correction

AGENCY: National Marine Fisheries Service (NMFS), National Oceanic and Atmospheric Administration (NOAA), Commerce.

ACTION: Final rule; correction.

SUMMARY: NMFS published a final rule on December 12, 2018, to establish the 2019-2020 harvest specifications and management measures for groundfish taken in the U.S. exclusive economic zone off the coasts of Washington, Oregon, and California. That rule included modifications to depth contour coordinates used for area management, trip limits for a variety of fleets, and allocations to different fisheries within the Pacific Coast groundfish fisheries. This action corrects the order of two waypoints for the 150 fathom (274 m) depth line, corrects the trip limits for the limited entry fixed gear and open access fleets for Minor Nearshore Rockfish south of 42° North latitude (N), and corrects the Shorebased Individual Fishing Quota (IFQ) allocations for 2019 and 2020 for canary rockfish and shortspine thornyheads north of 34°27′ N latitude. These corrections are necessary so that the implementing regulations are accurate and implement the action as intended by the Pacific Fishery Management Council (Council).

DATES: This correction is effective on January 1, 2019.

FOR FURTHER INFORMATION CONTACT: Keeley Kent, phone: 206-526-4655, fax: 206-526-6736, or email: Keeley.Kent@noaa.gov.

SUPPLEMENTARY INFORMATION: NMFS published a final rule on December 12, 2018 (83 FR 63970), that established the 2019-2020 harvest specifications and management measures for groundfish taken in the U.S. exclusive economic zone off the coasts of Washington, Oregon, and California. That final rule is effective January 1, 2019.

Need for Correction

The December 12, 2018, final rule adjusted the waypoints (latitude and longitude coordinates) for the 150 fathom (274 m) depth contour at § 660.73(h). Two of these waypoints were inadvertently swapped. When mapped, this erroneous coordinates create a cross-over in the line. In order to properly approximate the 150 fathom (274 m) contour in this area, paragraphs (282) and (283) will be switched.

Additionally, in the December 12, 2018, final rule, the trip limits for both the limited entry fixed gear (LEFG) fisheries north of 40°10′ N latitude and the open access (OA) fisheries north of 40°10′ N latitude, the sublimit within the Minor Nearshore Rockfish stock complex trip limit was mistakenly modified from those in the proposed rule by adding blue/deacon rockfish to the sublimit south of 42° N latitude (83 FR 47416; September 19, 2018). This mistake was connected to changes to other trip limits due to the new stock complex for Oregon black, blue/deacon rockfish. The preamble to the final rule correctly notes that this stock complex is only off of Oregon, so the correct southern extent is 42° N latitude, not 40°10′ N latitude. This action reverts the sublimits to what was originally proposed, correcting Table 12 (page 63978) and Table 13 (page 63980) in the preamble, and Table 2 North to Part 660, Subpart E and Table 3 North to Part 660, Subpart F in the regulations. For the LEFG fisheries between 42° and 40°10′ N latitude, no more than 1,200 pounds may be species other than black rockfish every two months within the Minor Nearshore Rockfish trip limit. Similarly, for the OA fisheries, between 42° and 40°10′ N latitude, no more than 1,200 pounds may be species other than black rockfish every two months within the Minor Nearshore Rockfish trip limit. There is no additional sublimit for blue/deacon rockfish south of 42° N latitude.

Finally, the December 12, 2018, final rule and the September 19, 2018, proposed rule (47416) included incorrect allocations to the Shorebased IFQ Program at § 660.140(d)(1)(ii)(D). These mistakes were also in Table 9 of the final rule preamble (page 63975). The 2019 and 2020 allocations for canary rockfish and for shortspine thornyhead north of 34°27′ N lat. were incorrect in the table in this paragraph. For canary rockfish, the deductions for exempted fishing permits from the ACL were calculated incorrectly, and when corrected result in slightly larger allocation for the Shorebased IFQ Program. The December 12, 2018, final rule set the allocations for canary rockfish in 2019 at 946.9 mt and in 2020 at 887.8 mt. This action correctly sets these allocations at 953.6 mt for 2019 and 894.3 mt for 2020.

For shortspine thornyhead north of 34°27′ N lat., improper application of the formula for dividing the trawl allocation resulted in an error in the Shorebased IFQ Program allocations. Under Amendment 21 to the Groundfish Fishery Management Plan, once the harvest guideline for this species is determined, a formula is applied to split that catch limit between trawl and non-trawl fisheries. The trawl allocation is then split by deducting the at-sea set asides, and the remainder is allocated to the Shorebased IFQ Program. For 2019-2020, the at-sea set aside amount for shortspine thornyhead north of 34°27′ N lat. was increased from 25 to 30 mt, which should have been deducted from the allocation to the Shorebased IFQ Program. In the December 12, 2018, final rule, the Shorebased IFQ Program allocation did not reflect this 5 mt increase. This action corrects this mistake by reducing the Shorebased IFQ Program allocation by 5 mt (0.3 percent of the total allocation). For 2019, the allocation is now 1,506.8 mt and for 2020, the allocation is now 1,493.5 mt.

All of these corrections are consistent with the Council action for the 2019-2020 groundfish harvest specifications and are minor corrections to correctly implement the Council intent in their final action from June 2018.

Classification

Pursuant to 5 U.S.C. 553(b)(B), the Assistant Administrator for Fisheries (AA) finds there is good cause to waive prior notice and an opportunity for public comment on this action, as notice and comment would be unnecessary and contrary to public interest. Notice and comment are unnecessary and contrary to the public interest because this action corrects inadvertent errors in the December 12, 2018, final rule. Immediate notice of the errors and correction is necessary to prevent confusion among participants in the fishery that could result in issues with enforcement of area management, as well as to allow the correct issuance of quota to the Shorebased IFQ Program for shortspine thornyheads and canary rockfish. To effectively correct the errors, the changes in this action must be effective on January 1, 2019, which is the effective date of the December 12, 2018, final rule. Thus, there is not sufficient time for notice and comment due to the imminent effective date of the December 12, 2018, final rule. In addition, notice and comment is unnecessary because this notice makes only minor changes to correct the final rule. These corrections will not affect the results of analyses conducted to support management decisions in the Pacific coast groundfish fishery.

For the same reasons stated above, the AA has determined that good cause exists to waive the 30-day delay in effectiveness pursuant to 5 U.S.C. 553(d). This notice makes only minor corrections to the final rule which will be effective January 1, 2019. Delaying effectiveness of these corrections would result in conflicts in the regulations and confusion among fishery participants. Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This final rule is not significant under Executive Order 12866.

Corrections

Effective January 1, 2019, in FR. Doc. 2018-26602 at 83 FR 63970 in the issue of December 12, 2018:

1. On page 63994, in amendatory instruction 9, in the second column, § 660.73(h)(282) and (283) are corrected to read as follows:

§ 660.73 [Corrected]

* * * * *

(h) * * *

(282) 34°09.00′ N lat., 120°18.40′ W long.;

(283) 34°11.07′ N lat., 120°25.03′ W long.;

* * * * *

2. On page 64002, in amendatory instruction 14, in the third column, § 660.140(d)(1)(ii)(D) is corrected to read as follows:

§ 660.140 [Corrected]

* * * * *

(d) * * *

(1) * * *

(ii) * * *

(D) For the trawl fishery, NMFS will issue QP based on the following shorebased trawl allocations:

IFQ species | Area | 2019 Shorebased trawl allocation (mt) | 2020 Shorebased trawl allocation (mt)
Arrowtooth flounder | Coastwide | 12,735.10 | 10,052.30
Bocaccio | South of 40°10′ N lat | 800.7 | 767.1
Canary rockfish | Coastwide | 953.6 | 894.3
Chilipepper | South of 40°10′ N lat | 1,838.30 | 1,743.80
COWCOD | South of 40°10′ N lat | 2.2 | 2.2
Darkblotched rockfish | Coastwide | 658.4 | 703.4
Dover sole | Coastwide | 45,979.20 | 45,979.20
English sole | Coastwide | 9,375.10 | 9,417.90
Lingcod | North of 40°10′ N lat | 2,051.90 | 1,903.40
Lingcod | South of 40°10′ N lat | 462.5 | 386
Longspine thornyhead | North of 34°27′ N lat | 2,420.00 | 2,293.60
Minor Shelf Rockfish complex | North of 40°10′ N lat | 1,155.20 | 1,151.60
Minor Shelf Rockfish complex | South of 40°10′ N lat | 188.6 | 188.6
Minor Slope Rockfish complex | North of 40°10′ N lat | 1,248.80 | 1,237.50
Minor Slope Rockfish complex | South of 40°10′ N lat | 456.00 | 455.4
Other Flatfish complex | Coastwide | 5,603.70 | 5,192.40
Pacific cod | Coastwide | 1,034.10 | 1,034.10
Pacific ocean perch | North of 40°10′ N lat | 3,697.30 | 3,602.20
Pacific whiting | Coastwide | TBD | TBD
Petrale sole | Coastwide | 2,453.00 | 2,393.20
Sablefish | North of 36° N; lat | 2,581.30 | 2,636.80
Sablefish | South of 36° N lat | 834 | 851.7
Shortspine thornyhead | North of 34°27′ N lat | 1,506.8 | 1,493.5
Shortspine thornyhead | South of 34°27′ N lat | 50 | 50
Splitnose rockfish | South of 40°10′ N lat | 1,646.70 | 1,628.70
Starry flounder | Coastwide | 211.6 | 211.6
Widow rockfish | Coastwide | 9,928.80 | 9,387.10
YELLOWEYE ROCKFISH | Coastwide | 3.4 | 3.4
Yellowtail rockfish | North of 40°10′ N lat | 4,305.80 | 4,048.00

3. On page 64008, in amendatory instruction 20, Table 2 (North) to Part 660, Subpart E is corrected to read as follows:

Table 2 (North) to Part 660, Subpart E—Non-Trawl Rockfish Conservation Areas and Trip Limits for Limited Entry Fixed Gear North of 40°10′ N Lat. [Corrected]

BILLING CODE 3510-22-P

4. On page 64011, in amendatory instruction 23, Table 3 (North) to Part 660, Subpart F is corrected to read as follows:

Table 3 (North) to Part 660, Subpart F—Non-Trawl Rockfish Conservation Areas and Trip Limits for Open Access Gears North of 40°10′ N Lat. [Corrected]

Authority: 16 U.S.C. 1801 et seq.

Dated: December 19, 2018.
Donna S. Wieting,
Acting Deputy Assistant Administrator for Regulatory Programs, National Marine Fisheries Service.

[FR Doc. 2018-27922 Filed 12-26-18; 8:45 am]

BILLING CODE 3510-22-C